DEPARTMENT OF TRANSPORTATION

Federal Highway Administration

Rescinding the Notice of Intent for an Environmental Impact Statement (EIS): Centre County, Pennsylvania

AGENCY: Federal Highway Administration (FHWA), DOT.

ACTION: Notice.

SUMMARY: This notice rescinds the Notice of Intent for preparing an Environmental Impact Statement (EIS) for a proposed highway in Centre County, Pennsylvania. The project study area includes U.S. Route 322 (U.S. 322), Pennsylvania State Route 144 (PA 144), Pennsylvania State Route 45 (PA 45) in College Township, Harris Township, Spring Township, Benner Township, Potter Township, and Centre Hall Borough, Centre County, Pennsylvania.

FOR FURTHER INFORMATION CONTACT: Camille Otto, Environmental Manager, FHWA, Pennsylvania Division, 228 Walnut Street, Room 508, Harrisburg, PA 17101-1720, Telephone: (717) 221-2238 (email: Camille.Otto@dot.gov), or Thomas Zurat, P.E., Assistant District Executive—Design, District 2-0, Pennsylvania Department of Transportation, 70 PennDOT Drive, Clearfield, PA 16830, Telephone: 814-765-0426 (email: tzurat@pa.gov).

SUPPLEMENTARY INFORMATION: The FHWA in cooperation with the Pennsylvania Department of Transportation (PennDOT) and the Centre Region Metropolitan Planning Organization initiated an EIS with a Notice of Intent published in the Federal Register on June 9, 1999, at 64 FR 31034, to identify and evaluate alternatives to address transportation problems within the southern central Centre County area. The proposed project would involve improvements to transportation conditions on the U.S. 322, PA 144, PA 45 and the local road systems, between Potters Mills, Pleasant Gap, and Boalsburg in south central Centre County.

Improvements for this corridor were considered necessary to provide for the existing and projected traffic demands. A needs study was undertaken and a range of transportation alternatives, including but not limited to No-Build, Transportation Systems Management (TSM) strategies, upgrading existing facilities, and New Alignment alternatives were developed consistent with land use strategies to address the identified transportation needs. The development of alternatives was based on traffic demands, engineering requirements, environmental and socioeconomic constraints, and public input. Public involvement and inter-agency coordination were maintained throughout the development of the EIS.

Due to fiscal constraints within the Commonwealth of Pennsylvania at the time, the project was halted on March 23, 2004, and the Notice of Intent is now rescinded.

Issued on: July 22, 2019.
Alicia Nolan,
Division Administrator, Federal Highway Administration.

[FR Doc. 2019-16054 Filed 7-26-19; 8:45 am]

BILLING CODE 4910-22-P